ENVIRONMENTAL PROTECTION AGENCY

[FRL-6701-7]

Proposed Administrative Cashout Deminimis Settlement Under Section 122(g) of the Comprehensive Environmental Response Compensation and Liability Act; in the Matter of Tri-County/Elgin Landfill Site, Kane County, Illinois

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past and projected future response costs concerning the Tri-County/Elgin Landfill site in Kane County, Illinois, with the Precision Diamond Tool Company. The settlement requires Precision Diamond Tool Company to pay $20,000.00 to the Hazardous Substance Superfund.

On October 13, 1998, EPA sent out deminimis settlement offers to 386 deminimis generators and transporters (the “deminimis offerees”). The Administrative Order on Consent accompanying that deminimis offer was designated as EPA Docket No. V-W-99-C-507. Attached to the Administrative Order on Consent in EPA Docket No. V-W-99-C-507 is a volumetric ranking, in the form of a spread sheet, listing the deminimis offerees, the volume of waste containing hazardous substances contributed to the Site by each deminimis offeree, and the deminimis settlement payment amount for each deminimis offeree (the “Volumetric Ranking”). The Volumetric Ranking is identified as Appendix A to the Administrative Order on Consent in EPA Docket No. V-W-99-C-507. The documented amount of hazardous substances contributed to the Site by each Respondent listed in Appendix A to the Administrative Order on Consent in EPA Docket No. V-W-99-C-507 does not exceed 0.5% of the “Adjusted Documented Volume” (as defined in Appendix B to the Administrative Order on Consent in EPA Docket No. V-W-99-C-507) of hazardous substances at the Site, and the hazardous substances contributed by each Respondent to the Site are not significantly more toxic or of significantly greater hazardous effect than other hazardous substances at the Site.

Out of the 386 deminimis offerees that were extended offers as part of EPA Docket No. V-W-99-C-507, 125 executed signature pages, certifying their commitment to participate in that deminimis settlement. Public comment on the terms of the deminimis settlement was conducted from April 23, 1999, through May 24, 1999. Notice that the deminimis settlement was final and effective was mailed to all settling parties on June 11, 1999.

Precision Diamond Tool Company inadvertently was not included in Appendix A to the Administrative Order on Consent in EPA Docket No. V-W-99-C-507 and did not participate in that settlement. Precision Diamond Tool does, however, have a documented volume. For purposes of this deminimis settlement, Precision Diamond Tool's documented volume was calculated in the same way the volume was calculated for each deminimis generator listed in Appendix A to the Administrative Order on Consent in EPA Docket No. V-W-99-C-507. Precision Diamond Tool's documented volume is 862 cubic yards, thus making it eligible for a deminimis settlement offer. In Appendix A to the Administrative Order on Consent in EPA Docket No. V-W-99-C-507, Robin Construction is listed with a documented volume of 870 cubic yards and a deminimis settlement payment amount of $20,079.00, and Custom Packaging Company is listed with a documented volume of 860 cubic yards and a deminimis settlement payment amount of $19,849.00. Precision Diamond Tool's documented volume falls between the documented volume of these two generators. Accordingly, Precision Diamond Tool's deminimis settlement payment amount should also fall between the payment amount of these two deminimis generators. Therefore, Precision Diamond Tool's deminimis payment amount is determined to be $20,000.00.

Under the terms of the settlement, Precision Diamond Tool Company agrees to pay its settlement amount. In exchange for its payment, the United States covenants not to sue or take administrative action pursuant to Sections 106 and 107(a) of CERCLA, 42 U.S.C. 9606 and 9607(a), relating to the Site. In addition, Precision Diamond Tool Company is entitled to protection from contribution actions or claims as provided by Sections 113(f) and 122(g)(5) of CERCLA, 42 U.S.C. 9613(f) and 9622(g)(5), for all response costs incurred and to be incurred by any person at the Site.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at EPA's Region 5 Office at 77 West Jackson Boulevard, Chicago, Illinois 60604 and at the Gail Borden Public Library in Elgin.

DATES: Comments must be submitted on or before June 16, 2000.

ADDRESSES: The proposed settlement is available for public inspection at EPA's Record Center, 7th floor, 77 W. Jackson Blvd., Chicago, Illinois 60604. A copy of the proposed settlement may be obtained from Jeffrey A. Cahn, Associate Regional Counsel, U.S. EPA, Mail Code C-14J, 77 W. Jackson Blvd., Chicago, Illinois 60604, telephone (312) 886-6670. Comments should reference the Tri-County/Elgin Landfill site, Kane County, Illinois, and EPA Docket No. V-W-00-C-585, and should be addressed to Jeffrey A. Cahn, Associate Regional Counsel, U.S. EPA, Mail Code C-14J, 77 W. Jackson Blvd., Chicago, Illinois 60604.

FOR FURTHER INFORMATION CONTACT: Jeffrey A. Cahn, Associate Regional Counsel, U.S. EPA, Mail Code C-14J, 77 W. Jackson Blvd., Chicago, Illinois 60604, telephone (312) 886-6670.

Authority: The Comprehensive Environmental Response, Compensation, and Liability Act of 1980, as amended, 42 U.S.C. 9601, et. seq.

Dated: May 8, 2000.
William E. Muno,
Director, Superfund Division.

[FR Doc. 00-12389 Filed 5-16-00; 8:45 am]

BILLING CODE 6560-50-U